DEPARTMENT OF COMMERCE

National Oceanic and Atmospheric Administration

[I.D. 080201A]

Notice of Public Meeting

AGENCY: National Marine Fisheries Service (NMFS), National Oceanic and Atmospheric Administration (NOAA), Commerce.

ACTION: Notice of meeting of the North Pacific Research Board Voting Members to nominate a new member.

SUMMARY: The North Pacific Research Board (Board) will meet August 14, 2001, at 3 p.m. at the U.S. Department of Agriculture (USDA) Forest Conference Room, Room 541B, Federal Building, Juneau, AK in order to nominate a new Board member. The meeting is open to the public. Members of the public may address the Board or submit written comments.

DATES: August 14, 2001, 3 p.m., Alaska local time.

ADDRESSES: Inquiries related to the Board’s meeting should be submitted to Bill Hines, International Coordinator, Alaska Region, NMFS, P.O. Box 21668, Juneau, AK, 99802, Attn: Lori Gravel, or delivered to Room 453 of the Federal Building, 709 West 9th Street, Juneau, AK.

FOR FURTHER INFORMATION CONTACT: Bill Hines, 907-586-7224 or email at William.Hines@noaa.gov.

SUPPLEMENTARY INFORMATION:

Background

Section 401(a) of Public Law (Pub.L.) 105-83, as amended by Pub.L. 106-113, established the Environmental Improvement and Restoration Fund. Twenty percent of the interest proceeds from this fund, which contains one half of the amount awarded to the United States in the case, United States v. Alaska, 521 U.S. 1 (1997) is used by the Department of Commerce to finance fisheries and marine research in the Bering Sea, North Pacific Ocean, and Arctic Ocean. These research activities are administered by the North Pacific Research Board. The remaining 80 percent of the interest earned from this fund is used by Bureau of Land Management, Fish and Wildlife Service, National Park Service, and USDA Forest Service to address maintenance backlogs.

Recent changes to the Board’s original legislation detailed in Pub.L. 106-554, empower 5 members of the 20-member Board to make all decisions of the Board, including grant recommendations. The amendment also created a twentieth member, who shall represent fishing interests and shall be nominated by the Board and appointed by the Secretary of Commerce. The Board shall nominate this twentieth member at its upcoming meeting.

Special Accommodations

This meeting will be physically accessible to people with disabilities. Requests for sign language interpretation or other auxiliary aids should be directed to Bill Hines (see FOR FURTHER INFORMATION CONTACT) at least 7 working days prior to the meeting date.

Dated: August 2, 2001.
Bruce C. Morehead,
Acting Director, Office of Sustainable Fisheries, National Marine Fisheries Service.

[FR Doc. 01-19905 Filed 8-7-01; 8:45 am]

BILLING CODE 3510-22-S